DEPARTMENT OF TRANSPORTATION

National Highway Traffic Safety Administration

49 CFR Parts 561 and 571

[Docket No. NHTSA-2024-0091]

RIN 2127-AM43

Federal Motor Vehicle Safety Standards; FMVSS No. 305a Electric-Powered Vehicles: Electric Powertrain Integrity Global Technical Regulation No. 20; Incorporation by Reference

AGENCY: National Highway Traffic Safety Administration (NHTSA), Department of Transportation (DOT).

ACTION: Final rule; delay of effective date.

SUMMARY: This document delays until March 20, 2025, the effective date of the December 20, 2024, final rule that adopted Federal Motor Vehicle Safety Standard (FMVSS) No. 305a to replace FMVSS No. 305, “Electric-powered vehicles: Electrolyte spillage and electrical shock protection.” FMVSS No. 305a applies to light and heavy vehicles and includes performance requirements for the propulsion battery. The final rule also established a part entitled, “Documentation for Electric-powered Vehicles,” that requires manufacturers to compile risk mitigation documentation and submit standardized emergency response information to assist first and second responders handling electric vehicles.

DATES: The effective date of the rule published on December 20, 2024, at 89 FR 104318, is delayed until March 20, 2025. The incorporation by reference approval of certain publications listed in the rule by the Director of the Federal Register is delayed until March 20, 2025.

ADDRESSES: Correspondence related to this rule should refer to the docket number set forth above (NHTSA-2024-0091) and be submitted to regulations.gov or the Administrator, National Highway Traffic Safety Administration, 1200 New Jersey Avenue SE, Washington, DC 20590.

FOR FURTHER INFORMATION CONTACT: For technical issues: Mr. Ian MacIntire, Office of Crashworthiness Standards, Telephone: (202) 493-0248; Facsimile: (202) 366-7002. For legal issues: Ms. K. Helena Sung, Office of the Chief Counsel, Telephone: (202) 366-2992, Facsimile: (202) 366-3820. The mailing address for these officials is: National Highway Traffic Safety Administration, 1200 New Jersey Avenue SE, Washington, DC 20590.

SUPPLEMENTARY INFORMATION: In accordance with the memorandum of January 20, 2025 from the President to executive departments and agencies, entitled “Regulatory Freeze Pending Review,” ¹ this action temporarily delays until March 20, 2025, the effective date of the rule entitled “Federal Motor Vehicle Safety Standards; FMVSS No. 305a Electric-Powered Vehicles: Electric Powertrain Integrity, Global Technical Regulation No. 20, Incorporation by Reference,” published in the Federal Register on December 20, 2024, at 89 FR 104318. NHTSA established Federal Motor Vehicle Safety Standard (FMVSS) No. 305a to replace FMVSS No. 305, “Electric-powered vehicles: Electrolyte spillage and electrical shock protection.” FMVSS No. 305a applies to light and heavy vehicles and includes performance requirements for the propulsion battery. The final rule also established 49 CFR part 561, “Documentation for Electric-powered Vehicles,” that requires manufacturers to compile risk mitigation documentation and submit standardized emergency response information to assist first and second responders handling electric vehicles.

¹ Available at https://www.whitehouse.gov/presidential-actions/2025/01/regulatory-freeze-pending-review/ (last accessed Jan. 22, 2025).

This action is exempt from notice and comment under 5 U.S.C. 553 and is effective immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication in the Federal Register.

Issued in Washington, DC, under authority delegated in 49 CFR 1.95 and 501.5.
Peter Simshauser,
Chief Counsel.

[FR Doc. 2025-02582 Filed 2-13-25; 8:45 am]

BILLING CODE 4910-59-P